DEPARTMENT OF THE TREASURY

Internal Revenue Service

26 CFR Part 301

[TD 9274]

1545-BB16

Disclosure of Return Information by Certain Officers and Employees for Investigative Purposes

Correction

In rule document 06-6110, beginning on page 38985, in the issue of Tuesday, July 11, 2006, make the following corrections:

§ 301.6103(k)(6)-1 [Corrected]

1. On page 38988, in the first column, in § 301.6103(k)(6)-1(d), in Example 1, “taxpayer(s” should read “taxpayer's” wherever it occurs in the paragraph.

2. On the same page, in the same column, in the same section, in Example 2, in the sixth line, “taxpayer(s” should read “taxpayer's”.

3. On the same page, in the second column, in the same section, in Example 3, “taxpayer(s” should read “taxpayer's” wherever it occurs in the paragraph.

4. On the same page, in the same column, in the same section, in Example 4, in the eleventh line, “Corporation A(s” should read “Corporation A's”.

[FR Doc. C6-6110 Filed 10-18-06; 8:45 am]

BILLING CODE 1505-01-D